DEPARTMENT OF COMMERCE

International Trade Administration

[C-489-806]

Notice of Initiation of Countervailing Duty Changed Circumstances Review: Certain Pasta from Turkey

AGENCY: Import Administration, International Trade Administration, Department of Commerce.

SUMMARY: In response to a request from Marsan Gida Sanayi ve Ticaret A.S. (“Marsan”) pursuant to section 751(b)(1) of the Tariff Act of 1930, as amended (“the Act”) and 19 CFR 351.216 and 351.221(c)(3), the Department of Commerce (“the Department”) is initiating a changed circumstances review of the countervailing duty (“CVD”) order on certain pasta (“Pasta”) from Turkey. Marsan, a producer of pasta, claims that Gidasa Sabanci Gida Sanayi ve Ticaret A.S. (“Gidasa”) changed its corporate name to Marsan and, therefore, Marsan should be entitled to the same cash deposit rate as its predecessor company, Gidasa.

EFFECTIVE DATE: January 28, 2009.

FOR FURTHER INFORMATION CONTACT: Shelly Atkinson, Office of AD/CVD Operations, Office 1, Import Administration, International Trade Administration, U.S. Department of Commerce, 14th and Constitution Avenue, NW, Washington, DC 20230; telephone: (202) 482-0116.

SUPPLEMENTARY INFORMATION:

Background

On July 24, 1996, the Department published in the Federal Register the CVD order on Pasta from Turkey. See Notice of Countervailing Duty Order: Certain Pasta (“Pasta”) From Turkey, 61 FR 38546 (July 24, 1996). Since then, the Department has completed two administrative reviews of this CVD order but is not currently conducting an administrative review. See Certain Pasta From Turkey: Final Results of Countervailing Duty Administrative Review, 66 FR 64398 (December 13, 2001); Certain Pasta from Turkey: Final Results of Countervailing Duty Administrative Review, 71 FR 52774 (September 7, 2006) (“Pasta from Turkey: Results of Administrative Review”). Also, with respect to Gidasa, in July 2003, the Department determined that Gidasa was the successor-in-interest to Maktas Makarnacilik ve Ticaret A.S. (“Maktas”) and that Gidasa was entitled to the cash deposit rate assigned to Maktas in the most recently completed CVD administrative review. See Notice of Final Results of Changed Circumstances Antidumping and Countervailing Duty Administrative Reviews: Certain Pasta From Turkey, 68 FR 41554 (July 14, 2003); see also Certain Pasta from Turkey: Final Results of Countervailing Duty Administrative Review, 66 FR 64398 (December 13, 2001).

On December 3, 2008, Marsan filed a request for an expedited changed circumstances review to determine whether it is the successor-in-interest to Gidasa, in accordance with section 751(b) of the Act and 19 CFR 351.216 for the antidumping (“AD”) and CVD orders on pasta from Turkey. Marsan submitted certain information in support of its claim that it is the successor-in-interest to Gidasa and argued that it should be entitled to Gidasa's current CVD cash deposit rate of 0.0 percent. See Marsan's December 3, 2008 submission entitled Pasta From Turkey: Request for Expedited Changed Circumstances Review of AD/CVD Orders; see also Pasta from Turkey: Final Results of Administrative Review, 71 FR at 52775. In response to Marsan's request regarding the AD order, on January 7, 2009, the Department published its initiation of a changed circumstances review and stated that it will seek further information for the preliminary determination. See Notice of Initiation of Antidumping Duty Changed Circumstances Review: Certain Pasta From Turkey, 74 FR 681 (January 7, 2009).

Scope of the Order

Imports covered by this review are shipments of certain non-egg dry pasta in packages of five pounds (or 2.27 kilograms) or less, whether or not enriched or fortified or containing milk or other optional ingredients such as chopped vegetables, vegetable purees, milk, gluten, diastases, vitamins, coloring and flavorings, and up to two percent egg white. The pasta covered by this scope is typically sold in the retail market, in fiberboard or cardboard cartons, or polyethylene or polypropylene bags, of varying dimensions.

Excluded from the scope of this review are refrigerated, frozen, or canned pastas, as well as all forms of egg pasta, with the exception of non-egg dry pasta containing up to two percent egg white.

The merchandise subject to review is currently classifiable under item 1902.19.20 of the Harmonized Tariff Schedule of the United States (“HTSUS”). Although the HTSUS subheading is provided for convenience and customs purposes, the written description of the merchandise subject to the order is dispositive.

Initiation of Countervailing Duty Changed Circumstances Review

Pursuant to section 751(b)(1) of the Act, the Department will conduct a changed circumstances review upon receipt of a request from an interested party, or receipt of information, concerning a CVD order which shows changed circumstances sufficient to warrant a review of the order. On December 3, 2008, Marsan submitted its request for an expedited changed circumstances review. With its request, Marsan submitted certain information related to its claim including information describing the acquisition of Gidasa in March 2008 by MGS Marmara Gida Sanayi ve Ticaret A.S. (“MGS”). Following the acquisition of Gidasa, in June 2008, MGS changed Gidasa's name to Marsan. Based on the information Marsan submitted, the Department has determined that changed circumstances sufficient to warrant a review exist. See 19 CFR 351.216(d). Additionally, we note that there is no concurrent administrative review of Gidasa in which this name change could be examined.

In the context of a changed circumstances review of an AD order based on a name change or a change in the company's ownership or structure, the Department relies on its “successor-in-interest” analysis to determine whether the successor remains essentially the same entity as the predecessor so that it is appropriate to impose the existing AD cash deposit rate of the predecessor on the successor. However, the AD successor-in-interest test may not fully address whether it is appropriate to apply the CVD cash deposit rate of a previously examined company to its claimed successor.

In Stainless Steel Sheet and Strip in Coils from the Republic of Korea: Preliminary Results of Countervailing Duty Changed Circumstances Review, 71 FR 75937 (December 19, 2006), the Department indicated that it intended to further consider the issue of whether alternative or additional successorship criteria, other than those the Department relies upon in an AD successor-in-interest analysis, would be more appropriate in a successorship-type CVD changed circumstances review context. Moreover, the Department stated that it anticipated issuing a Federal Register notice inviting the public to submit comments on the issue. Subsequently, the Department published Countervailing Duty Changed Circumstances Reviews; Request for Comment on Agency Practice, 72 FR 3107 (January 24, 2007), in which the Department reiterated that the AD successor-in-interest analysis may not be entirely relevant in the CVD context, highlighted various considerations that distinguish CVD changed circumstances reviews from AD changed circumstances reviews, and provided the public an opportunity to comment on whether any changes to the Department's practice regarding such reviews was warranted and, if so, what those changes should entail.

In the instant changed circumstances review, we intend not to apply the AD successor-in-interest methodology to determine whether Marsan is the successor-in-interest to Gidasa. The Department anticipates requesting additional information for this review and will publish in the Federal Register a notice of the preliminary results of the CVD changed circumstances review, in accordance with 19 CFR 351.221(b)(2) and (4), and 19 CFR 351.221(c)(3)(i). That notice will set forth the factual and legal conclusions upon which our preliminary results are based and a description of any action proposed. Pursuant to 19 CFR 351.221(b)(4)(ii), interested parties will have an opportunity to comment on the preliminary results of review. In accordance with 19 CFR 351.216(e), the Department will issue the final results of its CVD changed circumstances review not later than 270 days after the date on which the review is initiated.

Because the Department is not using the standard AD successor-in-interest methodology to examine this changed circumstances review and the Department will seek further information from Marsan, the Department has determined that it would be inappropriate to expedite this action by combining the preliminary results of review with this notice of initiation, as permitted under 19 CFR 351.221(c)(3)(ii). Thus, the Department is not issuing the preliminary results of its CVD changed circumstances review at this time.

The current requirement for a cash deposit of estimated countervailing duties on all subject merchandise will continue unless and until it is modified pursuant to the final results of this changed circumstances review.

This notice of initiation is in accordance with section 751(b)(1) of the Act, 19 CFR 351.216(b) and (d), and 19 CFR 351.221(b)(1).

Dated: January 16, 2009.
Stephen J. Claeys,
Deputy Assistant Secretary for Import Administration.

[FR Doc. E9-1713 Filed 1-27-09; 8:45 am]

BILLING CODE 3510-DS-S